DEPARTMENT OF DEFENSE

Department of the Army

Proposed Collection; Comment request

AGENCY: Office of the Administrative Assistant to the Secretary of the Army, (OAA-RPA), DoD.

ACTION: Notice.

In compliance with Section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents; including through the use of automated collection techniques or other forms of information technology.

DATES: Consideration will be given to all comments received by August 19, 2005.

ADDRESSES: Written comments and recommendations on the proposed information collection should be sent to USACE, Directorate of Civil Works, Institute for Water Resources, 7701 Telegraph Road/Casey Building, Alexandria, Virginia 22315-3868. ATTN: (Virginia R. Pankow). Consideration will be given to all comments received within 60 days of the date of publication of this notice.

FOR FURTHER INFORMATION CONTACT: To request more information on this proposed information collection or to obtain a copy of the proposal and associated collection instruments, please write to the above address, or call Department of the Army Reports Clearance Officer at (703) 602-0636.

Title, Associated Form, and OMB Number: Lock Performance Monitoring System (LMPS); Waterway Traffic Report; ENG FORMS 302c1 and 3102D; OMB Control Number 0710-0008.

Needs and Uses: The U.S. Army Corps of Engineers utilizes the data collected to monitor and analyze the use and operation of federally owned and operated locks; owners, agents and masters of vessels and estimated tonnage and commodities carried. The information is used for sizing and scheduling replacement or maintenance of locks and canals.

Affected Public: Business or other for-profit.

Annual Burden Hours: 28,507.

Number of Respondents: 3,000.

Responses Per Respondent: 231.

Average Burden Per Response: 2.5 minutes.

Frequency: On occasion.

SUPPLEMENTARY INFORMATION:

Summary of Information Collection

The data is used primarily by the Corps of Engineers in conducting a system wide approach to planning and management on the waterway. The Headquarters, Division and District Offices use the information specifically to assist in making determinations on: Adequate staffing for operations and maintenance of the navigation locks and dams; to justify the hours of locks operations; to provide a basis to justify the continued funding as set out in the President's Operation and Maintenance, General Budget; to schedule route maintenance and repairs; to serve as a basis for studies and plans for improvement; for lock operating procedures; to provide data to be used in analyses for major modifications or replacements to lock and cam structures; and to forecast the impact the lock delays, downtown, and proposed changes have on the diversion of waterborne commerce to other transportation modes.

Dated: June 10, 2005.
Patricia L. Toppings,
Alternate OSD Federal Register Liaison Officer, Department of Defense.

[FR Doc. 05-12066 Filed 6-17-05; 8:45 am]

BILLING CODE 5001-06-M